ENVIRONMENTAL PROTECTION AGENCY

[OW-FRL-7475-2]

Beaches Environmental Assessment and Coastal Health Act

AGENCY: Environmental Protection Agency.

ACTION: Notice of availability of grants for implementation of Coastal Recreation Water Monitoring and Public Notification under the Beaches Environmental Assessment and Coastal Health Act.

SUMMARY: The Beaches Environmental Assessment and Coastal Health Act (BEACH Act) signed into law on October 10, 2000, amends the Clean Water Act (CWA), incorporating provisions to reduce the risk of illness to users of the Nation's recreational waters. The BEACH Act authorizes the U.S. Environmental Protection Agency (EPA) to award program development and implementation grants to eligible States, Territories, Tribes, and local governments to support microbiological testing and monitoring of coastal recreation waters, including the Great Lakes, that are adjacent to beaches or similar points of access used by the public. BEACH Act grants also provide support for development and implementation of programs to notify the public of the potential exposure to disease-causing microorganisms in coastal recreation waters. EPA encourages coastal States and Territories to apply for BEACH Act Grants for Program Implementation (referred to as Implementation Grants) to implement effective and comprehensive coastal recreation water monitoring and public notification programs.

DATES: Submit your application on or before June 30, 2003.

ADDRESSES: You must send your application to the appropriate Regional Grant Coordinator listed in this notice under SUPPLEMENTARY INFORMATION Section VII.

FOR FURTHER INFORMATION CONTACT: Charles Kovatch, 202-566-0399

SUPPLEMENTARY INFORMATION:

I. Grant Program

What Is the Statutory Authority for the Implementation Grants?

The general statutory authority for BEACH grants is section 406(b) of the CWA as amended by the BEACH Act, Public Law 106-284, 114 Stat. 970 (2000). It provides: “The Administrator may make grants to States and local governments to develop and implement programs for monitoring and notification for coastal recreation waters adjacent to beaches or similar points of access that are used by the public.” Section 406(b)(2)(A), however, limits EPA's ability to award implementation grants. It provides that the “Administrator may make grants to States and local governments to implement a monitoring and notification program if “

(i) The program is consistent with the performance criteria published by the Administrator under subsection (a);

(ii) The State or local government prioritizes the use of grant funds for particular coastal recreation waters based on the use of the water and the risk to human health presented by pathogens or pathogen indicators;

(iii) The State or local government makes available to the Administrator the factors used to prioritize the use of funds under clause (ii);

(iv) The State or local government provides a list of discrete areas of coastal recreation waters that are subject to the program for monitoring and notification for which the grant is provided, and specifies any coastal recreation waters for which fiscal constraints will prevent consistency with the performance criteria under subsection (a); and

(v) The public is provided an opportunity to review the program through a process that provides for public notice and an opportunity for comment.

What Activities Are Eligible for Funding Under the Development Grants in Fiscal Year 2003?

In Fiscal Year 2003, EPA intends to award grants authorized under the BEACH Act to eligible States and Territories to support the implementation of coastal recreation water monitoring and public notification programs that are consistent with EPA's required performance criteria for grants. The required performance criteria for grants were published by EPA on July 19, 2002 in the document, National Beach Guidance and Required Performance Criteria for Grants, (document number: EPA-823-B-02-004). A notice of availability of the required performance criteria for grants was published in the Federal Register (67 FR 47540). This performance criteria document is available on EPA's Web site at http://www.epa.gov/waterscience/beaches/grants. Copies of the document can also be obtained by writing, calling, or e-mailing: Office of Water Resources Center, U.S. Environmental Protection Agency, Mail Code 4100T, 1200 Pennsylvania Avenue, NW., Washington, DC 20460. (Phone: 202-566-1731 or e-mail: center.water-resource@epa.gov).

II. Funding and Eligibility

Who Is Eligible to Apply for Implementation Grants Under This Federal Register Notice?

Coastal and Great Lake States that meet the requirements of Section 406(b)(2)(A) are eligible for implementation grants in FY 2003 to implement monitoring and notification programs. The term “State” is defined in section 502 of the CWA to include the District of Columbia, the Commonwealth of Puerto Rico, the Virgin Islands, Guam, American Samoa, the Commonwealth of the Northern Mariana Islands, and the Trust Territory of the Pacific Islands. However, the Trust Territory of the Pacific Islands no longer exists. The Marshall Islands, the Federated States of Micronesia, and Palau, which were previously entities within the Trust Territory of the Pacific Islands, have entered into Compacts of Free Association with the Government of the United States. As a result, each is now a sovereign, self-governing entity and, as such, is no longer eligible to receive grants as a Territory or possession of the United States.

Are Local Governments Eligible for Funding?

The BEACH Act authorizes EPA to make a grant to a local government for implementation of a monitoring and notification program only if, after the one-year period beginning on the date of publication of performance criteria, EPA determines that the State is not implementing a program that meets the requirements of section 406(b) of the Act. EPA published performance criteria on July 19, 2002. Therefore, July 20, 2003 is the earliest date local governments would be eligible for implementation grants.

Local governments can contact the appropriate EPA Regional office for information about BEACH Act grants, including, after July 20, 2003, a list of States and Territories, if any, that EPA has determined are not implementing programs consistent with section 406(b) of the BEACH Act. See Section VII for a list of EPA Regional grant coordinators.

Are Tribal Governments Eligible for Funding?

Section 518(e) of the CWA authorizes EPA to treat eligible Indian Tribes in the same manner as States for the purpose of receiving CWA section 406 grant funding. In order to receive BEACH Act grant funds a Tribe must have coastal recreation waters (defined in part as waters designated under CWA section 303(c) for use for swimming, bathing, surfing or similar water contact activities), and beaches or similar points of public access adjacent to these waters. In addition, a Tribe must meet the “treatment in the same manner as a State” criteria under CWA section 518(e) to receive grant funds under section 406 of the CWA. EPA believes that currently no Tribes meet the requirements for CWA section 406 grant funding.

How Much Funding Is Available?

For Fiscal Year 2003, EPA expects to award approximately $ 9.935 million in Implementation Grants to eligible States and Territories.

How Will the Funding Be Allocated?

For this first year of the Implementation Grants, EPA expects to award grants to all eligible States and Territories who apply for funding based on an allocation formula that EPA developed for allocating BEACH Act grant funds in 2002. EPA consulted with various States, the Coastal States Organization, and Association of State and Interstate Water Pollution Control Administrators (ASIWPCA) to develop this formula which uses three factors that are readily available and verifiable: (1) Length of beach season, (2) miles of beach and (3) number of people that use the beaches.

(1) Beach Season Length

Beach season length was selected as a factor since it determines the part of the year that a government would conduct its monitoring program. The longer the beach season, the more resources a government would need to conduct monitoring. EPA's information on the length of a beach season was obtained from the National Health Protection Survey of Beaches for the States or Territories that reported information. The beach season length for American Samoa, Oregon, Puerto Rico, and Northern Mariana Islands was estimated based on season reported by nearby States and Territories. The beach season length for Alaska was estimated based on air and water temperature, available information on recreation activities, and data from the 1993 National Water Based Recreation Survey. EPA grouped the States and U.S. Territories into four categories of beach season lengths:

For beaches in— | The beach season category is—
Alaska | <3 months.
Connecticut, Delaware, Illinois, Indiana, Maine, Maryland, Massachusetts, Michigan, Minnesota, New Hampshire, New Jersey, New York, Ohio, Oregon, Pennsylvania, Rhode Island, Virginia, Washington, Wisconsin | 3-4 months.
Alabama, Georgia, Louisiana, Mississippi, North Carolina, South Carolina months | 5-6.
American Samoa, California, Florida, Guam, Hawaii, Northern Mariana, Puerto Rico, Texas, U.S. Virgin Islands | 9-12 months.

(2) Beach Miles

Miles of beach was selected as a factor because it determines the geographical extent over which a government would conduct monitoring. The longer the miles of beaches, the more resources a government would need to conduct monitoring. For this first year of Implementation Grants, EPA is using shoreline miles as a surrogate rather than beach miles because beach miles are not available for all beaches in the 35 eligible States and Territories. EPA has discussed the drawbacks of using this surrogate factor with States. The shoreline miles data overestimates beach miles in some States, however, EPA and States agreed that this is the best beach estimate available at this time. States have yet to provide EPA with complete information identifying their coastal recreation waters and beaches. Thus, as a practical matter, EPA could not use beach miles in the allocation formula for FY 2003 grants. Instead, for FY 2003 grants, EPA used the NOAA publication The Coastline of the United States to quantify the shoreline miles. As a grant condition required by the BEACH Act, States must identify their coastal recreation waters and beaches. States must also report to EPA, as a condition of their FY 2003 grants, latitude, longitude and mileage data on:(1) The extent of beaches and similar points of public access adjacent to coastal recreation waters, and (2) the extent of beaches that are monitored. States should submit this information by October 31, 2003. Therefore, in future years, EPA will be able to measure and thus use beach miles rather than shoreline.

(3) Beach Use

Beach use was selected as a factor because it reflects the importance of beach-related tourism to the local economy. Greater beach use makes it more likely that a government would need to conduct increased monitoring because of the larger number of people potentially exposed to pathogens. For this first year of Implementation Grants, EPA is using the coastal population of counties that are wholly or partially within the State's or Territory's legally defined coastal zone as a surrogate, rather than beach usage, because information on beach visitors is not available for all beaches in the 35 eligible States and Territories. EPA discussed the drawbacks of using this surrogate factor with States, and several were doubtful that EPA could develop a consistent, verifiable approach for estimating beach use for all beaches. However, these States could not suggest a better way to quantify this factor at present. EPA is committed to working with the States and Territories that receive BEACH Act grants to develop a better way to quantify this factor. EPA used the 2000 Census data to quantify coastal population.

The grants allocation formula consists of the sum of three parts. The first part provides a base amount for all States and Territories that varies with the length of the beach season. The second part distributes 50% of the total remaining funds based on the ratio of shoreline miles in a State or Territory to the total length of shoreline miles. For example, if a State has 4% of the total coastal and Great Lakes shoreline, that State would receive 4% of 50% which is 2% of the total funds remaining after the funds for the beach season length are distributed. The third part distributes 50% of the total remaining funds based on the ratio of coastal population in a State or Territory to the total coastal population. For example, if a State has 2% of the total coastal and Great Lakes population, that State would receive 2% of 50% which is 1% of the total funds remaining after the funds for the beach season length are distributed. The following table summarizes the allocation formula:

For the factor— | The part of the allocation is—
Beach season length | <3 months: $150,000 (States and Territories with a season.
| <3 months receive season-based funding only.).
| 3-4 months: $200,000.
| 5-6 months: $250,000.
| >6 months: $300,000.
Shoreline miles | 50% of funds remaining after allocation of season-based funding.
Coastal population | 50% of funds remaining after allocation of season-based funding.

For 2003, the total funds available for BEACH Act grants is $9.935 million, which is $10 million less an overall reduction of 0.65%. In computing the allocation formula, EPA used a total amount of $10 million to compute the funds for each state and Territory, and then applied a 0.65% reduction across all States and Territories. EPA believes that this approach more closely follows the intent of EPA's appropriation act because the President's budget request for FY 2003 included $10 million for BEACH Act grants, but only $9.935 million is actually available to EPA under its appropriation act, which reflects a reduction of 0.65%. Based on this allocation calculation, the amount of each State or Territory's implementation grant award in FY 2003 is expected to be from $149,0250 to $544,552 if all 35 eligible States and Territories apply. EPA anticipates that all 35 eligible governments will apply. If fewer than 35 States and Territories apply for the allocated amount, or meet the required performance criteria for award of an implementation grant, then EPA will distribute available grant funds to States and Territories in the following order of priority:

(1) States that have met the requirements for implementation grants will receive the full amount of funds based on the allocation formula.

(2) EPA may award grants for continued program development to States that have not met the requirements for implementation grants. Any program development grants awarded will be for the limited purpose of supporting completion of work that may be needed to qualify for implementation grants. Therefore, grants for continued program development (if any) are expected to be lower than the amount allocated for program implementation grants.

(3) EPA may award program implementation grants after July 20, 2003 to local governments in States that EPA has determined have not met the requirements for implementation grants.

(4) EPA may award any remaining funds to States that have met the requirements for implementation grants using the criteria in the allocation formula.

If all 35 eligible States and Territories apply and meet the requirements for implementation grants, the distribution of the $ 9.935 million in funds for year 2003 will be:

For the State or Territory of— | The year 2003 allocation is—
Alabama | $261,514
Alaska | 149,025
American Samoa | 300,364
California | 532,164
Connecticut | 223,921
Delaware | 210,299
Florida | 544,552
Georgia | 287,442
Guam | 300,860
Hawaii | 322,897
Illinois | 245,043
Indiana | 204,963
Louisiana | 380,052
Maine | 257,766
Maryland | 273,429
Massachusetts | 257,453
Michigan | 283,360
Minnesota | 203,309
Mississippi | 256,481
New Hampshire | 203,594
New Jersey | 282,586
New York | 359,215
North Carolina | 305,007
Northern Mariana | 301,648
Ohio | 224,227
Oregon | 229,757
Pennsylvania | 223,012
Puerto Rico | 328,757
Rhode Island | 212,340
South Carolina | 298,726
Texas | 387,508
U.S. Virgin Islands | 301,483
Virginia | 281,693
Washington | 274,585
Wisconsin | 225,970

What Is the Expected Duration of the Funding and Project Periods?

The expected funding and project period for Implementation Grants awarded in FY 2003 is one year.

Are Matching Funds Required?

Recipients are not required to provide matching funds for Implementation Grants awarded under authority of the BEACH Act at this time. EPA will consider establishing a match requirement in the future based on a review of State program activity and funding levels.

What if a State Cannot Use All of Its Allocation?

If a State or Territory cannot use all of its allocation, the Regional Administrator may award the unused funds to any eligible coastal or Great Lake grant recipient(s) in the Region for the continued development or implementation of their coastal recreation water monitoring and notification program(s). If after this re-allocation, there are still unused funds within the Region, EPA-Headquarters will redistribute these funds for award to any eligible coastal or Great Lake grant recipient(s).

III. Requirements for Implementation Grants

As discussed in Section I of this notice, EPA may only award implementation grants to States and local governments if the state or local government meets five statutory requirements, one of which is that the state or local program be consistent with the performance criteria published by EPA. In drafting the performance criteria, EPA included the remaining four statutory requirements in the performance criteria. Therefore, if a state or local program is consistent with the performance criteria, then the state or local government should also have met the remaining four statutory requirements for implementation grants. In order for EPA to determine that a state or local government is eligible for an implementation grant, documentation that programs are consistent with the performance criteria must be submitted with applications for implementation grants.

IV. Eligible Activities

Recipients may use funds for activities to support implementing a program that is consistent with the required performance criteria for grants specified in the document, National Beach Guidance and Required Performance Criteria for Grants, (document number: EPA-823-B-02-004).

V. Selection Process

Implementation Grants will be awarded through a non-competitive process by the EPA Regional offices. EPA expects to award grants to all eligible State and Territory applicants that meet requirements of the BEACH Act as described in this notice.

Who Has the Authority To Award BEACH Act Grants?

The Administrator has delegated the authority to award Implementation Grants to the Regional Administrators.

VI. Application Procedure

What Is the Catalog of Federal Domestic Assistance (CFDA) Number for the Program Development Implementation BEACH Act Grants?

The number assigned to the BEACH Act Grants is 66.472, Program Code CU.

Can BEACH Act Grant Funds Be Included in a Performance Partnership Grant?

For Fiscal Year 2003, BEACH Act Grants cannot be included in a Performance Partnership Grant.

What Are the Components of the Application Package?

The application package should contain completed EPA SF-424 Application for Federal Assistance, Program Summary, and Data Submission Plan and be submitted to the appropriate EPA Regional Office by June 30, 2003. EPA will review the documentation that is submitted to determine whether the program meets the requirements for implementation grants and make an award based on its determination. The Office of Management and Budget has authorized EPA to collect this information (BEACH Act Grant Information Collection Request, OMB control number 2040-0244). Please contact the appropriate EPA Regional Office for a complete application package. See Section VII for a list of EPA Regional Grant Coordinators or visit the EPA Beach Watch Web site at www.epa.gov/waterscience/beaches/contact.html on the Internet.

The Program Summary submitted with the application must provide sufficient technical detail for EPA to determine whether a State's program meets the requirements for implementation grants listed in section 1 of this notice. Specifically, the Program Summary must describe how the State used BEACH Act Grant funds to develop the beach monitoring and notification program, and how the program has met the nine performance criteria in National Beach Guidance and Required Performance Criteria for Grants, (document number: EPA-823-B-02-004).

The Data Submission Plan describes how States will develop their beach monitoring and notification data collection and reporting system. It will also describe the State data infrastructure, and how the State plans to submit beach monitoring and notification data to EPA. More information on both the Program Summary and Data Submission Plan is available at www.epa.gov/waterscience/beaches/grants/.

Will Quality Assurance and Quality Control (QA/QC) and Other Procedures Be Required for Application?

Yes. Three specific QA/QC requirements must be met to comply with EPA's required performance criteria for grants:

(1) Applicants must submit quality system documentation that describes the quality system implemented by the State, Tribe, or local government. It may be in the form of a Quality Management Plan or equivalent documentation.

(2) Applicants must submit a quality assurance project plan (QAPP) or equivalent documentation.

(3) Applicants are responsible for submitting documentation of the quality system and QAPP for review and approval by the EPA Quality Assurance Officer or his designee before environmental measurements are taken. More information about QA/QC procedures required for application is available in Chapter Four and Appendix H of National Beach Guidance and Required Performance Criteria for Grants, (document number: EPA-823-B-02-004).

Will There Be Reporting Requirements?

Recipients must submit annual performance reports and financial reports as required in 40 CFR §§ 31.40 and 31.41. The annual performance report explains changes to the beach monitoring and notification program during the grant year and how the grant funds were used to implement the program to meet the performance criteria listed in National Beach Guidance and Required Performance Criteria for Grants, (document number: EPA-823-B-02-004). The annual performance report required under 40 CFR 31. 40 is due no later than 90 days after the grant year. Recipients must also submit annual monitoring and notification reports required under the National Beach Guidance and Required Performance Criteria for Grants, (document number: EPA-823-B-02-004). The annual monitoring report requirement is established in sections 2.2.3 and 4.3 of National Beach Guidance and Required Performance Criteria for Grants, and the annual notification report requirement is established in sections 2.2.8 and 5.4 of the same document. The monitoring and notification data which should be submitted to EPA to meet these reporting requirements are described in Appendix E of National Beach Guidance and Required Performance Criteria for Grants. These reports include data collected as part of a monitoring and notification program and are required to be submitted to EPA by CWA section 406(b)(3)(A). As a condition of award of an implementation grant, EPA is requiring that the monitoring report and the notification report for any beach season be submitted not later than January 31 of the year following the beach season.

What Regulations and OMB Cost Circular Will Apply to the Award and Administration of These Grants?

The regulations at 40 CFR part 31 will govern the award and administration of grants to States, local governments, and Territories under section 406 of the BEACH Act. Allowable costs will be determined in accordance with the cost principles in OMB Cost Circular A-87.

VII. Grant Coordinators

Headquarters—Washington DC

Charles Kovatch USEPA, 1200 Pennsylvania Ave. NW—4305, Washington DC 20460; T: 202-566-0399; F: 202-566-0409; kovatch.charles@epa.gov.

Region I—Connecticut, Maine, Massachusetts, New Hampshire, Rhode Island

Matt Liebman USEPA Region I, One Congress St. Ste. 1100-CWQ, Boston, MA 02114-2023; T: 617-918-1626; F: 617-918-1505; liebman.matt@epa.gov.

Region II—New Jersey, New York, Puerto Rico, U.S. Virgin Islands

Helen Grebe USEPA Region II, 2890 Woodbridge Ave. MS220, Edison, NJ 08837-3679; T: 732-321-6797; F: 732-321-6616; grebe.helen@epa.gov.

Region III—Delaware, Maryland, Pennsylvania, Virginia

Nancy Grundahl USEPA Region III, 1650 Arch Street 3ES10, Philadelphia, PA 19103-2029; T: 215-814-2729; F: 215-814-2782; grundahl.nancy@epa.gov.

Region IV—Alabama, Florida, Georgia, Mississippi, North Carolina, South Carolina

Joel Hansel USEPA Region IV, 61 Forsyth St., 15th Floor, Atlanta, GA 30303-3415; T: 404-562-9274; F: 404-562-9224; hansel.joel@epa.gov.

Region V—Illinois, Indiana, Michigan, Minnesota, Ohio, Wisconsin

Holly Wirick USEPA Region V, 77 West Jackson Blvd. WT-16J, Chicago, IL 60604-3507; T: 312-353-6704; F: 312-886-0168; wirick.holiday@epa.gov.

Region VI—Louisiana, Texas

Mike Schaub USEPA Region VI, 1445 Ross Ave. 6WQ-EW, Dallas, TX 75202-2733; T: 214-665-7314; F: 214-665-6689; schaub.mike@epa.gov.

Region IX—American Soma, Commonwealth of the Northern Mariana Islands, California, Guam, Hawaii

Terry Fleming USEPA Region IX, 75 Hawthorne St. WTR-2, San Francisco, CA 94105; T: 415-972-3462; F: 415-947-3537; fleming.terrence@epa.gov.

Region X—Alaska, Oregon, Washington

Rob Pedersen USEPA Region X, 120 Sixth Ave. OW-134, Seattle, WA 98101; T: 206-553-1646; F: 206-553-0165; pedersen.rob@epa.gov.

Dated: March 24, 2003.
G. Tracy Mehan III,
Assistant Administrator for Water.

[FR Doc. 03-7639 Filed 3-28-03; 8:45 am]

BILLING CODE 6560-50-P